DEPARTMENT OF THE INTERIOR

Bureau of Land Management

[CO-120-1430-ES; COC-65444, COC-65445, COC-65446]

Notice of Realty Action: Proposed Classification of Public Lands for Recreation and Public Purposes Lease/Conveyance in Jackson County, CO

AGENCY: Bureau of Land Management, Department of Interior.

ACTION: Notice of realty action.

SUMMARY: The following public land in Jackson County, Colorado has been examined and found suitable for classification for lease or conveyance to the Colorado Division of Wildlife, under the provisions of the Recreation and Public Purposes act, as amended (43 U.S.C. 869 et seq.). The Colorado Division of Wildlife proposes to use the land for recreation purposes at Lake John, Seymour Reservoir and Cowdrey Lake. Publication of this notice will initiate public review, consultation and collaboration for this classification action.

Sixth Principal Meridian, Colorado

Township 10 North, Range 81 West (Lake John—COC-65444)

Section 34, E½SW¼, SE¼ (portion within excluded area of allotments 7148 and 7186).

Section 35, W½SW¼ (portion within excluded area of allotments 7148 and 7186).

Containing 105 acres.

Township 6 North, Range 80 West (Seymour Reservoir—COC-65445)

Section 20, E½NE¼.

Containing 80 acres.

Township 10 North, Range 79 West (Cowdrey Lake—COC-65446)

Section 18, lots 3 and 4, E½SW¼ (portion west of abandoned railroad grade).

Containing 105.25 acres.

The total amount of public land affected by this classification comprises approximately 290.25 acres.

Upon publication of this notice in the Federal Register, the above-described land will be segregated from all other forms of appropriation under the public land laws, including the general mining laws, except for lease or conveyance under the Recreation and Public Purposes Act and leasing under the mineral leasing laws, for a period of 18 months.

SUPPLEMENTARY INFORMATION: The Colorado Division of Wildlife proposes to use the land to construct, operate and maintain recreation areas at the above locations, including boating and fishing access and picnic facilities. The land is not needed for Federal purposes. Leasing or conveyance of title to the affected public land is consistent with the Kremmling Resource Area Resource Management Plan (December 1984) and would be in the public interest.

The lease/conveyance, when issued, would be subject to the following terms, conditions and reservations:

1. Provisions of the Recreation and Public Purposes Act and applicable regulations of the Secretary of the Interior;

2. A reservation to the United States of a right-of-way for ditches and canals constructed by the authority of the United States, pursuant to the Act of August 30, 1890 (43 U.S.C. 945);

3. All minerals shall be reserved to the United States, together with the right to prospect for, mine, and remove such deposits from the same under applicable law and regulations;

4. Those rights for reservoir purposes as have been granted to Meyring Livestock Company, its successors and assigns, by right-of-way CO-662, under the Act of March 3, 1891 (26 Stat.1101);

5. A right-of-way existing or of record for Jackson County Road 11A, located in the NE¼NE¼ of Section 20, Township 6 North, Range 80 West; Jackson County Road 39, located in the SW¼ of Section 18, Township 10 North, Range 79 West; Jackson County Road 7A, located in the SE¼ of Section 34 and the W½SW¼ of Section 35, Township 10 North, Range 81 West.

6. Title to the lands will revert to the United States if the Colorado Division of Wildlife attempts to transfer title to or control over the lands to a non-qualified person; the lands are substantially devoted to any use other than recreation; or the lands have not been used substantially for recreation for a 5-year period.

Detailed information concerning this action is available for review at the Kremmling Field Office, Bureau of Land Management, 2103 E. Park Avenue, Kremmling, Colorado 80459 or by calling Madeline Dzielak (970) 724-3003.

Classification Comments: Interested parties may submit comments involving the suitability of the land for recreation purposes. Comments on the classification are restricted to whether the land is physically suited for the proposal, whether the use will maximize the future use or uses of the land, whether the use is consistent with local planning and zoning, or whether the use is consistent with State and Federal programs.

Application Comments: Interested parties may submit comments regarding the specific use proposed in the application and plan of development, whether the Bureau of Land Management followed proper administrative procedures in reaching the decision, or any other factor not directly related to the suitability of the land for recreation purposes. For a period of 45 days from the date of publication of this notice in the Federal Register, interested parties may submit comments regarding the proposed lease/conveyance or classification of the land to the Field Manager, Kremmling Field Office, Bureau of Land Management, 2103 E. Park Avenue, Kremmling, Colorado 80459. Any adverse comments will be evaluated by the State Director, who may sustain, vacate, or modify this realty action. In the absence of any adverse comments, this realty action will become the final determination of the Department of the Interior.

Dated: August 13, 2002.
Linda Anania Gross,
Field Manager.

[FR Doc. 02-24477 Filed 9-25-02; 8:45 am]

BILLING CODE 4310-JB-P